DEPARTMENT OF DEFENSE

Defense Acquisition Regulations System

48 CFR Parts 203, 207, 209, 229, and 252

Defense Federal Acquisition Regulation Supplement; Technical Amendments

AGENCY: Defense Acquisition Regulations System, Department of Defense (DoD).

ACTION: Final rule.

SUMMARY: DoD is making technical amendments to the Defense Federal Acquisition Regulation Supplement (DFARS) to add references to the DFARS companion resource, Procedures, Guidance, and Information (PGI).

DATES: Effective Date: March 21, 2006.

FOR FURTHER INFORMATION CONTACT: Ms. Michele Peterson, Defense Acquisition Regulations System, OUSD (AT&L) DPAP (DARS), IMD 3C132, 3062 Defense Pentagon, Washington, DC 20301-3062. Telephone (703) 602-0311; facsimile (703) 602-0350.

List of Subjects in 48 CFR Parts 203, 207, 209, 229, and 252

Government procurement.

Michele P. Peterson,
Editor, Defense Acquisition Regulations System.

Therefore, 48 CFR parts 203, 207, 209, 229, and 252 are amended as follows:

1. The authority citation for 48 CFR parts 203, 207, 209, 229, and 252 continues to read as follows:

Authority: 41 U.S.C. 421 and 48 CFR Chapter 1.

PART 203—IMPROPER BUSINESS PRACTICES AND PERSONAL CONFLICTS OF INTEREST

2. Section 203.570-1 is revised to read as follows:

203.570-1 Scope.

This subpart implements 10 U.S.C. 2408. For information on 10 U.S.C. 2408, see PGI 203.570-1.

PART 207—ACQUISITION PLANNING

3. Section 207.105 is amended by adding paragraph (b)(19)(F) to read as follows:

207.105 Contents of written acquisition plans.

* * * * *

(b) * * *

(19) * * *

(F) CONUS Antiterrorism Considerations. Follow the procedures at PGI 207.105(b)(19)(F) for consideration of antiterrorism measures in acquisition planning.

PART 209—CONTRACTOR QUALIFICATIONS

4. Section 209.105-1 is added to read as follows:

209.105-1 Obtaining information.

For guidance on using the Excluded Parties List System, see PGI 209.105-1.

PART 229—TAXES

5. Section 229.101 is amended by revising paragraph (a) and adding paragraph (b) to read as follows:

229.101 Resolving tax problems.

(a) Within DoD, the agency-designated legal counsels are the defense agency General Counsels, the General Counsels of the Navy and Air Force, and for the Army, the Chief, Contract Law Division, Office of the Judge Advocate General. For additional information on the designated legal counsels, see PGI 229.101(a).

(b) For information on fuel excise taxes, see PGI 229.101(b).

PART 252—SOLICITATION PROVISIONS AND CONTRACT CLAUSES

252.225-7043 [Amended]

6. Section 252.225-7043 is amended as follows:

a. By revising the clause date to read “(Mar 2006)”; and

b. In paragraph (d), by removing “225.7401” and adding in its place “PGI 225.7403-1”.

[FR Doc. 06-2639 Filed 3-20-06; 8:45 am]

BILLING CODE 5001-08-P